DEPARTMENT OF AGRICULTURE

Submission for OMB Review; Comment Request

October 6, 2009.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Models of SNAP-Ed and Evaluation.

OMB Control Number: 0584-NEW.

Summary of Collection: The Food and Nutrition of the U.S. Department of Agriculture promotes optimal health and well-being of low-income individuals through improved nutrition and well-designed nutrition education efforts within the Supplemental Nutrition Assistance Program (SNAP). Under Section 17 of the Food and Nutrition Act of 2008 (7 U.S.C. 2026) the Secretary may undertake research that will help improve the administration and effectiveness of the SNAP. The nutrition assistance programs are a critical component to attaining FNS' goals. FNS defines SNAP-Ed activities as those designed to increase the likelihood of healthy food choices by SNAP recipients and those eligible for SNAP, but who are currently not participating in the program. The Models of SNAP-Ed and Evaluation Study will conduct rigorous independent evaluation of four SNAP-Ed demonstration projects.

Need and Use of the Information: The Models of SNAP-Ed and Evaluation Study will provide FNS with sound, independent estimates of the effectiveness of four SNAP-Ed approaches, and will provide SNAP-Ed educators with examples of evaluation designs that are both feasible and scientifically robust.

Description of Respondents: Individuals or households; State, Local or Tribal Government.

Number of Respondents: 2,796.

Frequency of Responses: Reporting: Other (one time).

Total Burden Hours: 1,548.

Ruth Brown,
Departmental Information Collection Clearance Officer.

[FR Doc. E9-24438 Filed 10-8-09; 8:45 am]

BILLING CODE 3410-30-P